DEPARTMENT OF THE INTERIOR

Minerals Management Service (MMS)

Notice on Outer Continental Shelf Oil and Gas Lease Sales

AGENCY: Minerals Management Service, Interior.

ACTION: List of Restricted Joint Bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period November 1, 2005, through April 30, 2006. The List of Restricted Joint Bidders published in the Federal Register May 3, 2005, covered the period May 1, 2005, through October 31, 2005.

Group I. Exxon Mobil Corporation. ExxonMobil Exploration Company.

Group II. Shell Oil Company. Shell Offshore Inc. SWEPI LP. Shell Frontier Oil & Gas Inc. Shell Consolidated Energy Resources Inc. Shell Land & Energy Company. Shell Onshore Ventures Inc. Shell Offshore Properties and Capital II, Inc. Shell Rocky Mountain Production LLC. Shell Gulf of Mexico Inc.

Group III. BP America Production Company. BP Exploration & Production Inc. BP Exploration (Alaska) Inc.

Group IV. TOTAL E&P USA, Inc.

Group V. Chevron Texaco Corporation. Chevron U.S.A. Inc. Texaco Inc. Texaco Exploration and Production Inc.

Group VI. ConocoPhillips Company.

Group VII. Eni Petroleum Co. Inc. Eni Petroleum Exploration Co. Inc. Eni Deepwater LLC. Eni Oil USA LLC.

Group VIII. Petrobras America Inc.

Dated: October 6, 2005.
R. M. “Johnnie” Burton,
Director, Minerals Management Service.

[FR Doc. 05-22125 Filed 11-4-05; 8:45 am]

BILLING CODE 4310-MR-P